DEPARTMENT OF ENERGY

Federal Energy Regulatory Commission

Combined Notice of Filings #1

Take notice that the Commission received the following electric rate filings:

Docket Numbers: ER16-1637-001.

Applicants: UIL Distributed Resources, LLC.

Description: Report Filing: Refund Report to be effective N/A.

Filed Date: 8/12/16.

Accession Number: 20160812-5201.

Comments Due: 5 p.m. ET 9/2/16.

Docket Numbers: ER16-2420-000.

Applicants: Southern Cross Transmission LLC.

Description: Application of Southern Cross Transmission LLC for Revision of Existing Negotiated Rate Authority to Allow Allocation of Transmission Capacity Under the Capacity Allocation Policy Statement and Request for Expedited Consideration etc.

Filed Date: 8/12/16.

Accession Number: 20160812-5217.

Comments Due: 5 p.m. ET 8/26/16.

Docket Numbers: ER16-2426-000.

Applicants: PJM Interconnection, L.L.C.

Description: § 205(d) Rate Filing: Original ISA SA No. 4508, Queue No. AA2-145 to be effective 7/18/2016.

Filed Date: 8/16/16.

Accession Number: 20160816-5090.

Comments Due: 5 p.m. ET 9/6/16.

Docket Numbers: ER16-2427-000.

Applicants: Midcontinent Independent System Operator, Inc.

Description: § 205(d) Rate Filing: 2016-08-16_SA 1632 ITC Midwest-Osceola Windpower GIA (G426/G538) to be effective 8/25/2010.

Filed Date: 8/16/16.

Accession Number: 20160816-5098.

Comments Due: 5 p.m. ET 9/6/16.

Docket Numbers: ER16-2428-000.

Applicants: Southwest Power Pool, Inc.

Description: § 205(d) Rate Filing: 1166R29 Oklahoma Municipal Power Authority NITSA and NOA to be effective 7/1/2016.

Filed Date: 8/16/16.

Accession Number: 20160816-5108.

Comments Due: 5 p.m. ET 9/6/16.

Docket Numbers: ER16-2429-000.

Applicants: Louisville Gas and Electric Company.

Description: Tariff Cancellation: LGE KU Notice of Cancellation Long Form MBR Tariff to be effective 10/17/2016.

Filed Date: 8/16/16.

Accession Number: 20160816-5109.

Comments Due: 5 p.m. ET 9/6/16.

Docket Numbers: ER16-2430-000.

Applicants: Kentucky Utilities Company.

Description: Tariff Cancellation: Notice of Cancellation Concurrence Long Form MBR Tariff to be effective 10/17/2016.

Filed Date: 8/16/16.

Accession Number: 20160816-5110.

Comments Due: 5 p.m. ET 9/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2016.
Kimberly D. Bose,
Secretary.

[FR Doc. 2016-19962 Filed 8-19-16; 8:45 am]

BILLING CODE 6717-01-P